NUCLEAR REGULATORY COMMISSION

Advisory Committee on the Medical Uses of Isotopes: Meeting Notice

AGENCY: U.S. Nuclear Regulatory Commission.

ACTION: Notice of meeting.

SUMMARY: The U.S. Nuclear Regulatory Commission (NRC) will convene a meeting of the Advisory Committee on the Medical Uses of Isotopes (ACMUI) on August 29, 2024, to discuss the ACMUI's draft subcommittee report on its review and recommendations on staff's regulatory basis for the rulemaking to amend financial assurance requirements for disposition of category 1-3 byproduct material radioactive sealed sources. Meeting information, including a copy of the agenda and handouts, will be available on the ACMUI's Meetings and Related Documents web page at https://www.nrc.gov/reading-rm/doc-collections/acmui/meetings/2024.html or by emailing Ms. L. Armstead at the contact information below.

Date: August 29, 2024, from 2:00 p.m. to 4:00 p.m. Eastern Time.

Address for Public Meeting: This is a virtual meeting.

Date | Webinar information (Microsoft Teams)
August 29, 2024 | Link: https://teams.microsoft.com/l/meetup-join/19%3ameeting_NmZmMDUwYzgtNTZlYS00YmI1LWI4OGItMjJjMDYyZGRkNTk2%40thread.v2/0?context=%7b%22Tid%22%3a%22e8d01475-c3b5-436a-a065-5def4c64f52e%22%2c%22Oid%22%3a%22304f46bf-32c2-4e0f-912c-878db895e74a%22%7d.
| Meeting ID: 254 136 027 833.
| Passcode: nxAuiE.
| Call in number (audio only): +301-576-2978, United States, Silver Spring.
| Phone Conference ID: 901 692 104#.

Public Participation: The meeting will be held using Microsoft Teams. Any member of the public who wishes to participate in the meeting via Microsoft Teams or via phone can use the information provided above or should contact Ms. L. Armstead. Members of the public should also monitor the NRC's Public Meeting Schedule at https://www.nrc.gov/pmns/mtg for any meeting updates.

Contact Information: Ms. L. Armstead, email: lxa5@nrc.gov, telephone: 301-415-1650.

Conduct of the Meeting

The ACMUI Chair, Dr. Hossein Jadvar will preside over the meeting. Dr. Jadvar will conduct the meeting in a manner that will facilitate the orderly conduct of business. The following procedures apply to public participation in the meeting:

1. Persons who wish to provide a written statement should submit an electronic copy to Ms. L. Armstead using the contact information listed above. All submittals must be received by the close of business on August 23, 2024, and must only pertain to the topics on the agenda.

2. Questions and comments from members of the public will be permitted during the meeting, at the discretion of the ACMUI Chair.

3. The draft transcript and meeting summary will be available on ACMUI's website https://www.nrc.gov/reading-rm/doc-collections/acmui/meetings/2024.html on or about September 23, 2024.

4. Persons who require special services, such as those for the hearing impaired, should notify Ms. L. Armstead of their planned participation.

This meeting will be held in accordance with the Atomic Energy Act of 1954, as amended (primarily section 161a); the Federal Advisory Committee Act (5 U.S.C. app); and the Commission's regulations in title 10 of the Code of Federal Regulations, part 7.

Dated at Rockville, Maryland this 9th day of July, 2024.
For the U.S. Nuclear Regulatory Commission.
Russell E. Chazell,
Federal Advisory Committee Management Officer.

[FR Doc. 2024-15325 Filed 7-11-24; 8:45 am]

BILLING CODE 7590-01-P